DEPARTMENT OF DEFENSE

Department of the Army, Corps of Engineers

Intent To Prepare a Draft Environmental Impact Statement for a Proposed: 76-Slip Mooring and Launching Facility With Associated Piers, Low-Profile Timber Bulkhead, Boat Ramp and Maintenance Dredging Within North Bay at 3701 South Sandpiper Road at Sandbridge in Virginia Beach, VA

AGENCY: Department of the Army, U.S. Army Corps of Engineers, DOD.

ACTION: Notice of Intent.

SUMMARY: The U.S. Army Corps of Engineers (Corps) will prepare an Environmental Impact Statement (EIS) to evaluate project alternatives and the public interest review factors, as well as the effects on Back Bay National Wildlife Refuge for the proposed mooring and launching facility.

FOR FURTHER INFORMATION CONTACT: Questions about the proposed action and the Draft Environmental Impact Statement (DEIS) can be answered by: Melissa Nash, U.S. Army Corps of Engineers, Norfolk District, 803 Front Street, Norfolk, VA 23510, (757) 201-7489 or email: melissa.a.nash@usace.army.mil.

SUPPLEMENTARY INFORMATION: 1. Proposed Action: Mr. Kenneth Douglas Wilkins is proposing the removal and reconstruction of an existing pier and twelve commercial (12) mooring slips to be used by the existing eco-tourism and rental operation; the proposed construction of sixty-four (64) new members-only slips with associated piers; construction of a boat ramp; installation of a non-backfilled bulkhead; as well as maintenance and new dredging at property located at 3701 South Sandpiper Road in the Sandbridge community of Virginia Beach, VA. In 2008, the Corps issued an Individual Permit for this facility under Section 404 of the Clean Water Act (33 U.S.C. 1344) and Section 10 of the Rivers and Harbors Act of 1899 (33 U.S.C. 403). Before the applicant began constructing the facility the permit was challenged in the U.S. District Court for the Eastern District of Virginia, which awarded summary judgment to the Corps and upheld the permit decision. However, the decision was appealed. In Friends of Back Bay v. U.S. Army Corps of Engineers, 681 F.3d 581 (4th Cir. 2012), the Fourth Circuit remanded this action to the Corps for the preparation of an EIS pursuant to the National Environmental Policy Act (NEPA). The applicant will be seeking a permit from the Corps for the originally proposed facility.

2. Alternatives: Alternatives which will be investigated include, but will not be limited to alternate onsite layouts, a combination of alternatives, and the no project alternative.

3. Scoping Process: An interagency scoping meeting will be held with State and federal agencies on October 22, 2014, and formal scoping comments will be requested by November 21, 2014. The significant issues identified thus far include potential impacts Back Bay National Wildlife Refuge, submerged aquatic vegetation and water quality.

4. Public Scoping Meeting: A Public Notice was issued on October 8, 2014 to inform the public about the Public Scoping meeting to be held on November 6, 2014. The Corps will use the comments received to assist in identifying the significant issues, which should be addressed in the DEIS.

5. DEIS Availability: The Corps estimates that the DEIS will be available to the public for review and comment around the end of 2015.

Dated: October 7, 2014.
Paul B. Olsen,
Colonel, U.S. Army, Commanding.

[FR Doc. 2014-24623 Filed 10-16-14; 8:45 am]

BILLING CODE 3720-58-P